FEDERAL HOUSING FINANCE BOARD

[No. 2003-N-8]

Federal Home Loan Bank Members Selected for Community Support Review

AGENCY: Federal Housing Finance Board.

ACTION: Notice.

SUMMARY: The Federal Housing Finance Board (Finance Board) is announcing the Federal Home Loan Bank (Bank) members it has selected for the 2002-03 seventh quarter review cycle under the Finance Board's community support requirements regulation. This notice also prescribes the deadline by which Bank members selected for review must submit Community Support Statements to the Finance Board.

DATES: Bank members selected for the 2002-03 seventh quarter review cycle under the Finance Board's community support requirements regulation must submit completed Community Support Statements to the Finance Board on or before November 28, 2003.

ADDRESSES: Bank members selected for the 2002-03 seventh quarter review cycle under the Finance Board's community support requirements regulation must submit completed Community Support Statements to the Finance Board either by regular mail at the Federal Housing Finance Board, Office of Supervision, Community Investment and Affordable Housing, 1777 F Street, NW, Washington, DC 20006, or by electronic mail at fitzgeralde@fhfb.gov.

FOR FURTHER INFORMATION CONTACT: Emma J. Fitzgerald, Program Analyst, Office of Supervision, Community Investment and Affordable Housing, by telephone at 202/408-2874, by electronic mail at fitzgeralde@fhfb.gov, or by regular mail at the Federal Housing Finance Board, 1777 F Street, NW, Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the November 28, 2003 deadline prescribed in this notice. 12 CFR 944.2(b)(1)(ii) and (c). On or before October 27, 2003, each Bank will notify the members in its district that have been selected for the 2002-03 seventh quarter community support review cycle that they must complete and submit to the Finance Board by the deadline a Community Support Statement. 12 CFR 944.2(b)(2)(i). The member's Bank will provide a blank Community Support Statement Form, which also is available on the Finance Board's Web site: http://www.fhfb.gov. Upon request, the member's Bank also will provide assistance in completing the Community Support Statement.

The Finance Board has selected the following members for the 2002-03 seventh quarter community support review cycle:

Federal Home Loan Bank of Boston—District 1
Apple Valley Bank & Trust Company | Cheshire | Connecticut.
First New England Federal Credit Union | East Hartford | Connecticut.
Greenwich Bank & Trust Company | Greenwich | Connecticut.
Ledge Light Federal Credit Union | Groton | Connecticut.
Eastern Federal Bank | Norwich | Connecticut.
United Business and Industry Federal Credit Union | Plainville | Connecticut.
Putnam Savings Bank | Putnam | Connecticut.
Workers Federal Credit Union | Stafford Springs | Connecticut.
Westport National Bank | Westport | Connecticut.
Merrill Merchants Bank | Bangor | Maine.
Seaboard Federal Credit Union | Bucksport | Maine.
Union Trust Company | Ellsworth | Maine.
NorState Federal Credit Union | Madawaska | Maine.
Norway Savings Bank | Norway | Maine.
University Credit Union | Orono | Maine.
Infinity Federal Credit Union | Portland | Maine.
Maine Bank & Trust Company | Portland | Maine.
Belmont Savings Bank | Belmont | Massachusetts.
The Lenox National Bank | Lenox | Massachusetts.
Butler Bank | Lowell | Massachusetts.
Enterprise Bank and Trust Company | Lowell | Massachusetts.
Northmark Bank | North Andover | Massachusetts.
RTN Federal Credit Union | Waltham | Massachusetts.
Westborough Bank | Westborough | Massachusetts.
Commerce Bank & Trust Company | Worcester | Massachusetts.
Members First CU of New Hampshire | Manchester | New Hampshire.
Balboa Reinsurance Company | Burlington | Vermont.
ChittendenTrust Company | Burlington | Vermont.
Vermont Federal Credit Union | Burlington | Vermont.
NorthCountry Federal Credit Union | South Burlington | Vermont.
New England Federal Credit Union | Williston | Vermont.
Federal Home Loan Bank of New York—District 2
Affinity Federal Credit Union | Bedminster | New Jersey.
Somerset Hills Bank | Bernardsville | New Jersey.
The Community Bank of New Jersey | Freehold | New Jersey.
MIIX Insurance Company | Lawrenceville | New Jersey.
Boardwalk Bank | Linwood | New Jersey.
Millville Savings and Loan Association | Millville | New Jersey.
Crown Bank, NA | Ocean City | New Jersey.
Hudson City Savings Bank | Paramus | New Jersey.
Cenlar FSB | Trenton | New Jersey.
Llewellyn-Edison Savings Bank, FSB | West Orange | New Jersey.
Bank of Akron | Akron | New York.
State Employees Federal Credit Union | Albany | New York.
Putnam County Savings Bank | Brewster | New York.
First American International Bank | Brooklyn | New York.
HSBC Bank, USA | Buffalo | New York.
First State Bank—Canisteo | Canisteo | New York.
Flushing Savings Bank, F.S.B. | Flushing | New York.
Great Eastern Bank | Flushing | New York.
American Community Bank | Glen Cove | New York.
Gouverneur Savings & Loan Association | Gouverneur | New York.
FAA Eastern Region Federal Credit Union | Jamaica | New York.
Bank Leumi USA | New York | New York.
Hudson Valley Federal Credit Union | Poughkeepsie | New York.
WCTA Federal Credit Union | Sodus | New York.
Power Federal Credit Union | Syracuse | New York.
Wyoming County Bank | Warsaw | New York.
Community Mutual Savings Bank | White Plains | New York.
Kraft Foods Federal Credit Union | White Plains | New York.
Hudson Valley Bank | Yonkers | New York.
Firstbank—Puerto Rico | Santurce | Puerto Rico.
Bank of St. Croix, Inc. | Christiansted | Virgin Islands.
Federal Home Loan Bank of Pittsburgh—District 3
AIG Federal Savings Bank | Wilmington | Delaware.
Lehman Brothers Bank, FSB | Wilmington | Delaware.
Wilmington Trust Company | Wilmington | Delaware.
First Columbia Bank & Trust Company | Bloomsburg | Pennsylvania.
Fidelity Savings and Loan Association of Bucks County | Bristol | Pennsylvania.
Citizens Savings Association | Clarks Summit | Pennsylvania.
CSB Bank | Curwensville | Pennsylvania.
County Savings Association | Essington | Pennsylvania.
The First National Bank in Fleetwood | Fleetwood | Pennsylvania.
Swineford National Bank | Hummels Wharf | Pennsylvania.
S & T Bank | Indiana | Pennsylvania.
Jonestown Bank and Trust Company | Jonestown | Pennsylvania.
Commercial National Bank of Pennsylvania | Latrobe | Pennsylvania.
Lafayette Ambassador Bank | LeHigh Valley | Pennsylvania.
Farmers First Bank | Lititz | Pennsylvania.
Members 1st Federal Credit Union | Mechanicsburg | Pennsylvania.
The First National Bank of Mercersburg | Mercersburg | Pennsylvania.
Juniata Valley Bank | Mifflintown | Pennsylvania.
Mid Penn Bank | Millersburg | Pennsylvania.
Royal Bank of Pennsylvania | Narberth | Pennsylvania.
Atlantic Federal Credit Union | Newtown Square | Pennsylvania.
The Peoples Bank of Oxford | Oxford | Pennsylvania.
Port Richmond Savings | Philadelphia | Pennsylvania.
Dwelling House Savings and Loan Association | Pittsburgh | Pennsylvania.
Bank Pittsburgh | Pittsburgh | Pennsylvania.
Great American Federal | Pittsburgh | Pennsylvania.
Patriot Bank | Pottstown | Pennsylvania.
Union Bank and Trust Company | Pottsville | Pennsylvania.
The Fidelity Deposit & Discount Bank S | Cranton | Pennsylvania.
Citadel Federal Credit Union | Thorndale | Pennsylvania.
The Turbotville National Bank | Turbotville | Pennsylvania.
Merck, Sharp & Dohme Federal Credit Union | West Point | Pennsylvania.
WNB Bank | Williamsport | Pennsylvania.
Woodlands Bank | Williamsport | Pennsylvania.
The United Federal Credit Union | Morgantown | West Virginia.
Jefferson Security Bank | Shepherdstown | West Virginia.
Steel Works Community Federal Credit Union | Weirton | West Virginia.
Federal Home Loan Bank of Atlanta—District 4
Compass Bank | Birmingham | Alabama.
National Bank of Commerce of Birmingham | Birmingham | Alabama.
First National Bank of Shelby County | Columbiana | Alabama.
Bank of Dadeville | Dadeville | Alabama.
The Peoples Bank of Coffee County | Elba | Alabama.
The Citizens Bank | Enterprise | Alabama.
First Southern Bank | Florence | Alabama.
Citizens Bank & Savings Company | Russellville | Alabama.
Troy Bank & Trust Company | Troy | Alabama.
Security Bank | Tuscaloosa | Alabama.
State Bank and Trust | Winfield | Alabama.
IDB—IIC Federal Credit Union | Washington | D.C.
United States Senate | Washington | D.C.
Gibraltar Bank, FSB | Coral Gables | Florida.
Merchants and Southern Bank | Gainesville | Florida.
Ocala National Bank | Ocala | Florida.
Bankers Insurance Company | St. Petersburg | Florida.
Suncoast Schools Federal Credit Union | Tampa | Florida.
Southern Exchange Bank | Tampa | Florida.
Citrus Bank, N.A. | Vero Beach | Florida.
First Choice Credit Union West | Palm Beach | Florida.
CDC Federal Credit Union | Atlanta | Georgia.
Flag Bank | Atlanta | Georgia.
Bank of Camilla | Camilla | Georgia.
Rabun County Bank | Clayton | Georgia.
PlantersFirst | Cordele | Georgia.
Colony Bank of Dodge County | Eastman | Georgia.
South Georgia Bank | Glennville | Georgia.
The Gordon Bank | Gordon | Georgia.
Citizens Community Bank | Hahira | Georgia.
Georgia State Bank | Mableton | Georgia.
Pelham Banking Company | Pelham | Georgia.
The Bank of Perry | Perry | Georgia.
United Bank and Trust Company | Rockmart | Georgia.
The Savannah Bank, N.A | Savannah | Georgia.
The Park Avenue Bank | Valdosta | Georgia.
Oconee State Bank | Watkinsville | Georgia.
The Patterson Bank | Waycross | Georgia.
The First National Bank of Waynesboro | Waynesboro | Georgia.
First Mariner Bank | Baltimore | Maryland.
Bradford Federal Savings Bank | Baltimore | Maryland.
Fullerton Federal Savings Association | Baltimore | Maryland.
Johns Hopkins Federal | Baltimore | Maryland.
Kosciuszko Federal Savings Bank | Baltimore | Maryland.
Midstate Federal Savings & Loan Association | Baltimore | Maryland.
The Washington Savings Bank, F.S.B. | Bowie | Maryland.
The Centreville National Bank of Maryland | Centreville | Maryland.
The Columbia Bank | Columbia | Maryland.
County Banking and Trust Company | Elkton | Maryland.
The Bank of Glen Burnie | Glen Burnie | Maryland.
Cedar Point Federal Credit Union | Lexington Park | Maryland.
Sandy Spring Bank | Olney | Maryland.
BUCS Federal Bank | Owings Mills | Maryland.
Peninsula Bank | Salisbury | Maryland.
Prince George's Federal Savings Bank | Upper Marlboro | Maryland.
Belmont Federal Savings and Loan Association | Belmont | North Carolina.
Black Mountain Savings Bank, S.S.B. | Black Mountain | North Carolina.
Morganton Federal Savings & Loan Association | Morganton | North Carolina.
Coastal Federal Credit Union | Raleigh | North Carolina.
Security Savings Bank, SSB | Southport | North Carolina
Bank of North Carolina | Thomasville | North Carolina.
Carolina State Bank | Clinton | South Carolina.
Clover Community Bank | Clover | South Carolina.
The Peoples National Bank | Easley | South Carolina.
Carolina First Bank | Greenville | South Carolina.
Williamsburg First National Bank | Kingstree | South Carolina.
Provident Community Bank | Union | South Carolina.
Arthur State Bank | Union | South Carolina.
Pinnacle State Bank | Woodruff | South Carolina.
Union Bank & Trust Company | Bowling Green | Virginia.
The First National Bank of Christiansburg | Christiansburg | Virginia.
The National Bank of Fredericksburg | Fredericksburg | Virginia.
The Bank of McKenney | McKenney | Virginia.
Greater Atlantic Bank | Reston | Virginia.
Farmers and Merchants Bank | Timberville | Virginia.
Southern Financial Bank | Warrenton | Virginia.
Federal Home Loan Bank of Cincinnati—District 5
Union National Bank & Trust Company | Barbourville | Kentucky.
Bank of Benton | Benton | Kentucky.
Taylor County Bank | Campbellsville | Kentucky.
First Federal Savings Bank | Cynthiana | Kentucky.
First Federal Savings Bank | Elizabethtown | Kentucky.
Commonwealth Community Bank | Hartford | Kentucky.
The Citizens Bank | Hickman | Kentucky.
The First State Bank | Irvington | Kentucky.
Whitaker Bank, NA | Lexington | Kentucky.
Cumberland Valley National Bank and Trust Company | London | Kentucky.
Inez Deposit Bank, fsb | Louisa | Kentucky.
River City Bank | Louisville | Kentucky.
Green River Bank | Morgantown | Kentucky.
Citizens Bank of New Liberty | New Liberty | Kentucky.
Citizens National Bank of Paintsville | Paintsville | Kentucky.
West Point Bank | Radcliff | Kentucky.
Sebree Deposit Bank | Sebree | Kentucky.
The Peoples Bank | Taylorsville | Kentucky.
United Bank & Trust Company | Versailles | Kentucky.
The Farmers & Merchants State Bank | Archbold | Ohio.
The Citizens Bank of Ashville | Ashville | Ohio.
The Caldwell Savings and Loan Company | Caldwell | Ohio.
CINCO Federal Credit Union | Cincinnati | Ohio.
Century Federal Credit Union | Cleveland | Ohio.
The Pioneer Savings Bank | Cleveland | Ohio.
Clyde-Findlay Area Credit Union | Clyde | Ohio.
First Federal Savings and Loan Association of Delta | Delta | Ohio.
Ohio. Central Savings | Dublin | Ohio.
The Croghan Colonial Bank | Fremont | Ohio.
First Service Federal Credit Union | Groveport | Ohio.
The Killbuck Savings Bank Company | Killbuck | Ohio.
The Fahey Banking Company of Marion | Marion | Ohio.
The Old Fort Banking Company | Old Fort | Ohio.
Cornerstone Bank | Springfield | Ohio.
The Security National Bank and Trust Company | Springfield | Ohio.
Peoples Savings Bank of Troy | Troy | Ohio.
The First National Bank of Wellston | Wellston | Ohio.
The Wayne Savings Community Bank | Wooster | Ohio.
First Federal Savings Bank | Clarksville | Tennessee.
The Bank/First Citizens Bank | Cleveland | Tennessee.
Peoples Bank | Clifton | Tennessee.
Bank of Dickson | Dickson | Tennessee.
Security Bank | Dyersburg | Tennessee.
Greeneville Federal Bank, fsb | Greeneville | Tennessee.
Citizens Bank | Hartsville | Tennessee.
Citizens Bank of Blount County | Maryville | Tennessee.
National Bank of Commerce | Memphis | Tennessee.
The Bank of Moscow | Moscow | Tennessee.
ORNL Federal Credit Union | Oak Ridge | Tennessee.
Merchants and Planters Bank | Toone | Tennessee.
AEDC Federal Credit Union | Tullahoma | Tennessee.
Federal Home Loan Bank Indianapolis—District 6
Star Financial Bank | Anderson | Indiana.
First Community Bank and Trust | Bargersville | Indiana.
Hendricks County Bank and Trust Company | Brownsburg | Indiana.
First Farmers Bank & Trust | Converse | Indiana.
1st National Bank of Dana | Dana | Indiana.
Professional Federal Credit Union | Fort Wayne | Indiana.
Springs Valley Bank and Trust | French Lick | Indiana.
The Garrett State Bank | Garrett | Indiana.
Griffith Savings Bank | Griffith | Indiana.
Eli Lilly Federal Credit Union | Indianapolis | Indiana.
Indiana Members Credit Union | Indianapolis | Indiana.
First National Bank & Trust | Kokomo | Indiana.
Dearborn SA, FA | Lawrenceburg | Indiana.
Fidelity FSB | Marion | Indiana.
Farmers State Bank | Mentone | Indiana.
The New Washington State Bank | New Washington | Indiana.
The North Salem State Bank | North Salem | Indiana.
Tri-County Bank & Trust Company | Roachdale | Indiana.
Central Bank | Russiaville | Indiana.
Mid-Southern Savings Bank, FSB | Salem | Indiana.
Teachers Credit Union | South Bend | Indiana.
Bank of Lenawee | Adrian | Michigan.
University Bank | Ann Arbor | Michigan.
Blissfield State Bank | Blissfield | Michigan.
Byron Center State Bank | Byron Center | Michigan.
CSB Bank | Capac | Michigan.
Independent Bank East Michigan. | Caro | Michigan.
Exchange State Bank | Carsonville | Michigan.
First National Bank of Crystal Falls | Crystal Falls | Michigan.
State Savings Bank | Frankfort | Michigan.
First National Bank of Gaylord | Gaylord | Michigan.
First Community Bank | Harbor Springs | Michigan.
Firstbank-Lakeview | Lakeview | Michigan.
Republic Bank | Lansing | Michigan.
G.W. Jones Exchange Bank | Marcellus | Michigan.
Team One Credit Union | Saginaw | Michigan.
Shelby State Bank | Shelby | Michigan.
ChoiceOne Bank | Sparta | Michigan.
Midwest Guaranty Bank | Troy | Michigan.
Federal Home Loan Bank of Chicago—District 7
State Bank of the Lakes | Antioch | Illinois.
First National Bank of Ava | Ava | Illinois.
Town & Country Bank | Buffalo | Illinois.
Farmers State Bank of Hoffman | Centralia | Illinois.
American Union Savings & Loan | Chicago | Illinois.
The PrivateBank and Trust Company | Chicago | Illinois.
First East Side Savings Bank | Chicago | Illinois.
Cole Taylor Bank | Chicago | Illinois.
Self-reliance Ukrainian Federal Credit Union | Chicago | Illinois.
LaSalle Bank N.A. | Chicago | Illinois.
International Bank of Chicago | Chicago | Illinois.
Builders Bank | Chicago | Illinois.
First Bank of the Americas | Chicago | Illinois.
Park Federal Savings Bank | Chicago | Illinois.
First National Bank | Chicago Heights | Illinois.
Cissna Park State Bank | Cissna Park | Illinois.
GreatBank, N.A. | Evanston | Illinois.
Peoples National Bank | Fairfield | Illinois.
UnionBank/Northwest | Hanover | Illinois.
National Bank | Hillsboro | Illinois.
Community Trust Bank | Irvington | Illinois.
First Midwest Bank | Itasca | Illinois.
Midwest Bank of Western Illinois | Monmouth | Illinois.
BankPlus, fsb | Morton | Illinois.
Bank of Illinois | Normal | Illinois.
Hemlock Federal Bank for Savings | Oak Forest | Illinois.
First Community Bank, N.A. | Olney | Illinois.
Palos Bank and Trust Company | Palos Heights | Illinois.
Citizens Equity First Credit Union | Peoria | Illinois.
Pontiac National Bank | Pontiac | Illinois.
First Bankers Trust Company, N.A. | Quincy | Illinois.
First National Bank of Raymond | Raymond | Illinois.
AMCORE Bank N.A. | Rockford | Illinois.
The First National Bank in Toledo | Toledo | Illinois.
Busey Bank | Urbana | Illinois.
Fox Communities Credit Union | Appleton | Wisconsin.
Peoples State Bank | Augusta | Wisconsin.
First National Bank & Trust of Beloit | Beloit | Wisconsin.
Citizens State Bank | Cadott | Wisconsin.
Denmark State Bank | Denmark | Wisconsin.
Security National Bank of Durand | Durand | Wisconsin.
Union Bank and Trust Company | Evansville | Wisconsin.
1st Security Credit Union | Green Bay | Wisconsin.
State Bank of Howards Grove | Howards Grove | Wisconsin.
State Bank of La Crosse | La Crosse | Wisconsin.
Trane Federal Credit Union | La Crosse | Wisconsin.
Capitol Bank | Madison | Wisconsin.
The Park Bank | Madison | Wisconsin.
Premier Community Bank | Marion | Wisconsin.
Bay View Federal Savings and Loan Association | Milwaukee | Wisconsin.
Farmers Savings Bank | Mineral Point | Wisconsin.
Alliance Bank | Mondovi | Wisconsin.
The Necedah Bank | Necedah | Wisconsin.
Farmers Exchange Bank | Neshkoro | Wisconsin.
Hometown Bank | St. Cloud | Wisconsin.
Community State Bank | Union Grove | Wisconsin.
Federal Home Loan Bank of Des Moines—District 8
Union National Bank | Anita | Iowa.
Quad City Bank and Trust Company | Bettendorf | Iowa.
Exchange State Bank | Collins | Iowa.
NCMIC Insurance Company | Des Moines | Iowa.
Security Savings Bank | Eagle Grove | Iowa.
Iowa State Bank and Trust Company of Fairfield Iowa | Fairfield | Iowa.
First Bank and Trust Company | Glidden | Iowa.
American National Bank | Holstein | Iowa.
Home State Bank | Jefferson | Iowa.
Security Savings Bank | Larchwood | Iowa.
Farmers & Merchants Savings Bank | Manchester | Iowa.
Tama State Bank | Marshalltown | Iowa.
First Citizens National Bank | Mason City | Iowa.
Northwoods State Bank | Mason City | Iowa.
Pilot Grove Savings Bank | Pilot Grove | Iowa.
Frontier Bank | Rock Rapids | Iowa.
Citizens State Bank | Sheldon | Iowa.
The First National Bank | Shenandoah | Iowa.
Morningside Bank & Trust | Sioux City | Iowa.
Cedar Valley State Bank | St. Ansgar | Iowa.
First Bank | West Des Moines | Iowa.
Security Bank Minnesota | Albert Lea | Minnesota.
First Security Bank | Byron | Minnesota.
Canton State Bank | Canton | Minnesota.
Miners National Bank of Eveleth | Eveleth | Minnesota.
State Bank of Young America | Norwood Young America | Minnesota.
Peoples State Bank | Plainview | Minnesota.
United Prairie Bank-Slayton | Slayton | Minnesota.
First Security Bank | Sleepy Eye | Minnesota.
Cherokee State Bank | St. Paul | Minnesota.
First National Bank in Wadena | Wadena | Minnesota.
Wadena State Bank | Wadena | Minnesota.
First Security State Bank | Charleston | Missouri.
Mississippi County Savings & Loan Association | Charleston | Missouri.
Peoples Bank | Cuba | Missouri.
Century Bank of the Ozarks | Gainesville | Missouri.
The Hamilton Bank | Hamilton | Missouri.
Farmers and Merchants Bank | Hannibal | Missouri.
Premier Bank | Jefferson City | Missouri.
B & L Bank | Lexington | Missouri.
Bank of Minden | Mindenmines | Missouri.
Bank of Cairo and Moberly | Moberly | Missouri.
St. Clair County State Bank | Osceola | Missouri.
Platte Valley Bank of Missouri | Platte City | Missouri.
Farmers State Bank of Northern Missouri | Savannah | Missouri.
Central Bank of Missouri | Sedalia | Missouri.
Great Southern Bank | Springfield | Missouri.
Mid-Missouri Bank | Springfield | Missouri.
Gate City Bank | Fargo | North Dakota.
Community First National Bank | Fargo | North Dakota.
State Bank of Alcester | Alcester | South Dakota.
First American Bank & Trust | Sioux Falls | South Dakota.
Federal Home Loan Bank of Dallas—District 9
First National Bank of Izard County | Calico Rock | Arkansas.
First Federal Bank of AR, FA | Harrison | Arkansas.
Simmons First Bank of Jonesboro | Jonesboro | Arkansas.
Simmons First Bank of Russellville | Russellville | Arkansas.
Community Bank of North Arkansas | Springdale | Arkansas.
Warren Bank & Trust Company | Warren | Arkansas.
Mississippi River Bank | Belle Chasse | Louisiana.
Citizens Savings Bank | Bogalusa | Louisiana.
Homeland Federal Savings Bank | Columbia | Louisiana.
Peoples State Bank | Many | Louisiana.
City Bank & Trust Company | Natchitoches | Louisiana.
First Bank and Trust | New Orleans | Louisiana.
First Federal Savings & Loan Association | Opelousas | Louisiana.
ANECA Federal Credit Union | Shreveport | Louisiana.
Bank of Anguilla | Anguilla | Mississippi.
Guaranty Bank & Trust Company | Belzoni | Mississippi.
The Carthage Bank | Carthage | Mississippi.
First National Bank of Clarksdale | Clarksdale | Mississippi.
Cleveland Community Bank SSB | Cleveland | Mississippi.
Bank of Forest | Forest | Mississippi.
Hancock Bank | Gulfport | Mississippi.
Merchants and Farmers Bank | Kosciusko | Mississippi.
Priority One Bank | Magee | Mississippi.
First National Bank of Picayune | Picayune | Mississippi.
The Peoples Bank | Ripley | Mississippi.
First National Bank in Alamogordo | Alamogordo | New Mexico.
First State Bank of Taos | Albuquerque | New Mexico.
New Mexico Educators Federal Credit Union | Albuquerque | New Mexico.
Ranchers Banks | Belen | New Mexico.
FirstBank | Clovis | New Mexico.
University Federal Credit Union | Austin | Texas.
Citizens National Bank at Brownwood | Brownwood | Texas.
Columbus State Bank | Columbus | Texas.
Mainbank, N.A. | Dallas | Texas.
Share Plus Federal Credit Union | Dallas | Texas.
Texas Community Bank & Trust | Dallas | Texas.
Graham Savings & Loan, FA | Graham | Texas.
Planters & Merchants State Bank | Hearne | Texas.
MemberSource Credit Union | Houston | Texas.
Jacksonville Savings Bank, SSB | Jacksonville | Texas.
American State Bank | Lubbock | Texas.
American Bank of Texas, N.A. | Marble Falls | Texas.
First Bank & Trust of Memphis, Texas | Memphis | Texas.
Lone Star Bank | Moulton | Texas.
The Liberty National Bank in Paris | Paris | Texas.
Security State Bank | Pearsall | Texas.
Hale County State Bank | Plainview | Texas.
1st International Bank | Plano | Texas.
Legacy Bank of Texas | Plano | Texas.
Texas State Bank San | Angelo | Texas.
Community Bank, N.A. | San Benito | Texas.
Texas Savings Bank, s.s.b. | Snyder | Texas.
Mainland Bank | Texas City | Texas.
First National Bank of Van Alstyne | Van Alstyne | Texas.
Herring National Bank | Vernon | Texas.
Community Bank | Wellington | Texas.
Federal Home Loan Bank of Topeka—District 10
Bank of Colorado | Fort Collins | Colorado.
Alpine Bank | Glenwood Springs | Colorado.
Community Banks of the Rockies | La Jara | Colorado.
First National Bank of Las Animas | Las Animas | Colorado.
FirstBank of Arapahoe County | Littleton | Colorado.
Mancos Valley Bank | Mancos | Colorado.
The Pueblo Bank and Trust Company | Pueblo | Colorado.
High Country Bank | Salida | Colorado.
Community National Bank | Chanute | Kansas.
Fidelity State Bank and Trust Company | Dodge City | Kansas.
Armed Forces Bank N.A. | Fort Leavenworth | Kansas.
Heartland Bank, NA | Jewell | Kansas.
First National Bank and Trust Company | Junction City | Kansas.
First State Bank of Kansas City, KS | Kansas City | Kansas.
Premier Bank | Lenexa | Kansas.
Metcalf Bank | Overland Park | Kansas.
TeamBank, N.A. | Paola | Kansas.
Community National Bank | Seneca | Kansas.
Mid American Credit Union | Wichita | Kansas.
Five Points Bank | Grand Island | Nebraska.
First State Bank | Lincoln | Nebraska.
First National B&T Company of Minden | Minden | Nebraska.
FCE Credit Union | Omaha | Nebraska.
Plattsmouth State Bank | Plattsmouth | Nebraska.
The Jones National Bank & Trust Company | Seward | Nebraska.
First National Bank of Wahoo | Wahoo | Nebraska.
The First National Bank and Trust Company of Ada | Ada | Oklahoma.
Alva State Bank & Trust Company | Alva | Oklahoma.
Community National Bank | Alva | Oklahoma.
American National Bank | Ardmore | Oklahoma.
First BankCentere | Broken Arrow | Oklahoma.
Farmers and Merchants Bank | Crescent | Oklahoma.
The Eastman National Bank of Newkirk | Newkirk | Oklahoma.
First Bethany Bank and Trust, N.A. | Oklahoma City | Oklahoma.
Oklahoma Employees Credit Union | Oklahoma City | Oklahoma.
The First National Bank & Trust Company of Okmulgee | Okmulgee | Oklahoma.
First State Bank | Picher | Oklahoma.
F & M Bank, NA, Oklahoma City, Oklahoma | Piedmont | Oklahoma.
McClain Bank, NA | Purcell | Oklahoma.
Tinker Federal Credit Union | Tinker AFB | Oklahoma.
Oklahoma Central Credit Union | Tulsa | Oklahoma.
SpiritBank | Tulsa | Oklahoma.
Welch State Bank | Welch | Oklahoma.
Federal Home Loan Bank of San Francisco—District 11
Mohave State Bank | Lake Havasua City | Arizona.
Mesa Bank | Mesa | Arizona.
Camelback Community Bank | Phoenix | Arizona.
Desert Schools Federal Credit Union | Phoenix | Arizona.
Salt River Project Credit Union | Phoenix | Arizona.
Valley Bank of Arizona | Phoenix | Arizona.
Valley First Community Bank | Scottsdale | Arizona.
Bank of Tucson | Tucson | Arizona.
Southern Arizona Community Bank | Tucson | Arizona.
Mt. Diablo National Bank | Danville | California.
Six Rivers National Bank | Eureka | California.
Humboldt Bank | Eureka | California.
First Security Bank of California, NA | Granada Hills | California.
Cathay Bank | Los Angeles | California.
General Bank | Los Angeles | California.
F&A Federal Credit Union | Monterey Park | California.
Stanford Federal Credit Union | Palo Alto | California.
CBC Federal Credit Union | Port Hueneme | California.
Gateway Bank, FSB | San Leandro | California.
First Bank of San Luis Obispo | San Luis Obispo | California.
Chinatrust Bank (U.S.A.) | Torrance | California.
Sun Country Bank | Victorville | California.
Visalia Community Bank | Visalia | California.
Bank of Walnut Creek | Walnut Creek | California.
Bank of Commerce | Henderson | Nevada.
Community Bank of Nevada | Las Vegas | Nevada.
Ensign Federal Credit Union | Las Vegas | Nevada.
Security State Savings Bank | Las Vegas | Nevada.
Northern Nevada Bank | Reno | Nevada.
Federal Home Loan Bank of Seattle—District 12
City Bank | Honolulu | Hawaii.
Hawaii USA Federal Credit Union | Honolulu | Hawaii.
Idaho Banking Company | Boise | Idaho.
The Farmers National Bank of Buhi | Buhl | Idaho.
Lewiston State Bank | Lewiston | Idaho.
Citizens State Bank | Hamilton | Montana.
Mountain West Bank of Kalispell | Kalispell | Montana.
Valley Bank of Kalispell | Kalispell | Montana.
First National Bank of Montana, Inc. | Libby | Montana.
First Technology Credit Union | Beaverton | Oregon.
Bank of the Cascades | Bend | Oregon.
Siuslaw Valley Bank | Eugene | Oregon.
Portland Area Community Employees CU | Portland | Oregon.
Umpqua Bank | Roseburg | Oregon.
Clackamas County Bank | Sandy | Oregon.
First National Bank of Morgan | Morgan | Utah.
Bank of Utah | Ogden | Utah.
Goldenwest Credit Union | Ogden | Utah.
Western Community Bank | Orem | Utah.
American Bank of Commerce | Provo | Utah.
Escrow Bank USA | Salt Lake City | Utah.
First Utah Bank | Salt Lake City | Utah.
Utah Central Credit Union | Salt Lake City | Utah.
Heritage Bank | St. George | Utah.
North County Bank | Arlington | Washington.
Industrial Credit of Whatcom County | Bellingham | Washington.
Cashmere Valley Bank | Cashmere | Washington.
Mt. Rainier National Bank | Enumclaw | Washington.
EverTrust Bank | Everett | Washington.
Northwest Plus Credit Union | Everett | Washington.
Verity Credit Union | Seattle | Washington.
Watermark Credit Union | Seattle | Washington.
First Heritage Bank | Snohomish | Washington.
Horizon Credit Union | Spokane | Washington.
Rainier Pacific Bank | Tacoma | Washington.
American National Bank of Cheyenne | Cheyenne | Wyoming.
Cheyenne-Laramie County Employees F.C.U. | Cheyenne | Wyoming.
Warren Federal Credit Union | Cheyenne | Wyoming.
Western Visa Federal Credit Union | Cheyenne | Wyoming.
State Bank of Green River | Green River | Wyoming.
Bank of Jackson Hole | Jackson | Wyoming.
Central Bank & Trust | Lander | Wyoming.
North Side State Bank of Rock Springs | Rock Springs | Wyoming.
First Federal Savings Bank | Sheridan | Wyoming.
Sheridan State Bank | Sheridan | Wyoming.

II. Public Comments

To encourage the submission of public comments on the community support performance of Bank members, on or before October 27, 2003, each Bank will notify its Advisory Council and nonprofit housing developers, community groups, and other interested parties in its district of the members selected for community support review in the 2002-03 seventh quarter review cycle. 12 CFR 944.2(b)(2)(ii). In reviewing a member for community support compliance, the Finance Board will consider any public comments it has received concerning the member. 12 CFR 944.2(d). To ensure consideration by the Finance Board, comments concerning the community support performance of members selected for the 2002-03 seventh quarter review cycle must be delivered to the Finance Board on or before the November 28, 2003 deadline for submission of Community Support Statements.

Dated: October 7, 2003.
Arnold Intrater,
General Counsel.

[FR Doc. 03-25785 Filed 10-9-03; 8:45 am].

BILLING CODE 6725-01-P